SMALL BUSINESS ADMINISTRATION

Reporting and Recordkeeping Requirements Under OMB Review

AGENCY: Small Business Administration.

ACTION: 30-Day notice; request for comments.

SUMMARY: The Small Business Administration will submit the information collection described below to the Office of Management and Budget (OMB) for review and approval on or after the date of publication of this notice. SBA is publishing this notice in accordance with the Paperwork Reduction Act of 1995 to allow all interested member of the public an additional 30 days to provide comments on the collection of information.

DATES: Submit comments on or before January 27, 2022.

ADDRESSES: Written comments on this information collection request should be submitted through “www.reginfo.gov/public/do/PRAMain.” Find this information collection request by selecting “Small Business Administration”; “Currently Under Review,” then selecting “Only Show ICR for Public Comment.” This information collection can be identified by the title and/or OMB Control Number identified below.

FOR FURTHER INFORMATION CONTACT: Terrence Sutherland, Office of Entrepreneurial Education, SBA, terrence.sutherland@sba.gov (202) 205-6919 or Curtis B. Rich, Management Analyst, (202) 205-7030, curtis.rich@sba.gov.

SUPPLEMENTARY INFORMATION: Section 5004 of the American Rescue Plan Act of 2021, Public Law 117-2 (3/11/2021) authorized SBA to establish a Community Navigator Pilot Program. Under this authority, SBA may make grants to private nonprofit organizations, resource partners, States, Tribes, and units of local government to ensure the delivery of free community navigator services to current or prospective owners of small businesses in order to improve access to COVID-related assistance programs and resources.

To facilitate expeditious implementation of the program, on June 8, 2021, SBA obtained emergency approval from OMB, including waiver of the public comment notice required by 5 CFR 1320.8(d). That authority expires on December 31, 2021. On October 14, 2021, SBA published the waived 60-day notice in the Federal Register at 86 FR 27243. The Agency received four comments in response to the notice and will address disposition of those comments when it submits the information collection to OMB for standard processing.

Summary of Information Collection

This information collection consists of (SBA Form 3516, Community Navigators Pilot Program Client and Program Information Form, and quarterly reporting requirements. The form collects information from applicants to the Community Navigator Program to determine their eligibility for an award. At this time the application period is no longer open; however, SBA is extending this portion of the information collection in the event an additional funding opportunity becomes available. Form 3516 also collects data on the clients served by the awardees of the Community Navigator Pilot Program, to help track grantee performance and evaluate program success. This information collection also includes a requirement for grantees to report quarterly on program performance. The information will help SBA to assess program activity and the extent to which grantees are achieving desired program results and appropriately utilizing grant funds in support of the Community Navigator Program.

OMB Control Number: 3245-0423.

Title: Community Navigators Pilot Program.

Description of Respondents: Entrepreneurs receiving technical assistance and Community Navigators grantees providing technical assistance services.

Form Number: SBA 3516.

Total Estimated Annual Respondents: 202,7960.

Total Estimated Annual Responses: 500,000.

Total Estimated Annual Hour Burden: 137,657.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Curtis Rich,
Management Analyst.

[FR Doc. 2021-28081 Filed 12-27-21; 8:45 am]

BILLING CODE 8026-03-P